DEPARTMENT OF TRANSPORTATION

Pipeline and Hazardous Materials Safety Administration

[Docket No. PHMSA 2016-0094; Notice No. 2016-17]

Hazardous Materials: Proposed Termination of EX Classification Approval EX1987030326

AGENCY: Pipeline and Hazardous Materials Safety Administration (PHMSA), DOT.

ACTION: Notice.

SUMMARY: PHMSA proposes to terminate EX classification approval EX1987030326, issued to BHT Products, Inc. for a Division 4.1 classification. In January and May 2016, PHMSA attempted to contact BHT Products, Inc. via letters delivered by certified mail. These letters requested that BHT Products, Inc. provide PHMSA with background information, such as a copy of the existing lab report and test data to support the classification issued under EX1987030326. To date, PHMSA has not received any correspondence from BHT Products, Inc. concerning EX1987030326.

FOR FURTHER INFORMATION CONTACT: Mr. Ryan Paquet, Director, Approvals and Permits Division, Office of Hazardous Materials Safety, (202) 366-4512, PHMSA, 1200 New Jersey Avenue SE., Washington, DC 20590 or at explo@dot.gov.

Correspondence with respect to the EX classification approval EX1987030326 should be sent to explo@dot.gov with a subject line “EX classification approval EX1987030326” and should be in writing; state in detail any alleged errors of fact and law; enclose any additional information needed to support the request; and state in detail the final decision sought.

Action: PHMSA will terminate the EX classification approval EX1987030326 thirty (30) days after this notice is published in the Federal Register, unless the holder requests reconsideration as outlined in 49 CFR 107.715.

Issued in Washington, DC, on October 4, 2016, under authority delegated in 49 CFR part 107.
William S. Schoonover,
Acting Associate Administrator, Pipeline and Hazardous Materials Safety Administration.

[FR Doc. 2016-24417 Filed 10-7-16; 8:45 am]

BILLING CODE 4910-60-P